DEPARTMENT OF VETERANS AFFAIRS

[OMB Control No. 2900-0752]

Agency Information Collection (uSPEQ Consumer Survey Experience (Rehabilitation)) Under OMB Review

AGENCY: Veterans Health Administration, VA.

ACTION: Notice.

SUMMARY: In compliance with the Paperwork Reduction Act (PRA) of 1995 (44 U.S.C. 3501-21), this notice announces that the Veterans Health Administration (VHA), Department of Veterans Affairs, will submit the collection of information abstracted below to the Office of Management and Budget (OMB) for review and comment. The PRA submission describes the nature of the information collection and its expected cost and burden and includes the actual data collection instrument.

DATES: Comments must be submitted on or before September 23, 2013.

ADDRESSES: Submit written comments on the collection of information through www.Regulations.gov; or to Office of Management and Budget, Office of Information and Regulatory Affairs, Attn: VA Desk Officer; 725 17th St. NW., Washington, DC 20503 or sent through electronic mail to oira_submission@omb.eop.gov. Please refer to “OMB Control No. 2900-0752” in any correspondence.

FOR FURTHER INFORMATION OR A COPY OF THE SUBMISSION CONTACT: Crystal Rennie, Enterprise Records Service (005R1B), Department of Veterans Affairs, 810 Vermont Avenue NW., Washington, DC 20420, (202) 632-7492 or email: crystal.rennie@va.gov. Please refer to “OMB Control No. 2900-0752”.

SUPPLEMENTARY INFORMATION:

Title: uSPEQ Consumer Survey Experience (Rehabilitation), VA Form 10-0467.

OMB Control Number: 2900-0752.

Type of Review: Extension of a currently approved collection.

Abstract: uSPEQ (pronounced you speak) survey will be used to gather input from veterans regarding their satisfaction with VA's rehabilitation programs. VA will use the data collected to continue quality improvement, informed programmatic development, and to identify rehabilitation program strengths and weaknesses.

An agency may not conduct or sponsor, and a person is not required to respond to a collection of information unless it displays a currently valid OMB control number. The Federal Register Notice with a 60-day comment period soliciting comments on this collection of information was published on April 25, 2013 at page 24470.

Affected Public: Individuals and Households.

Estimated Annual Burden: 32,000 hours.

Estimated Average Burden per Respondent: 5 minutes.

Frequency of Response: On occasion.

Estimated Number of Respondents: 384,000.

Dated: August 19, 2013.
By direction of the Secretary.
Crystal Rennie,
VA Clearance Officer, U.S. Department of Veterans Affairs.

[FR Doc. 2013-20539 Filed 8-22-13; 8:45 am]

BILLING CODE 8320-01-P